Title 3—

The President

Executive Order 13476 of October 9, 2008

Facilitation of a Presidential Transition

By the authority vested in me as President by the Constitution and the laws of the United States of America, including section 7301 of title 5, United States Code, and the Intelligence Reform and Terrorism Prevention Act of 2004 (Public Law 108-458) (IRTPA), and in order to further the purposes of the Presidential Transition Act of 1963, as amended, and to assist the presidential transition, it is hereby ordered as follows:

Section 1. Presidential Transition Coordination. (a) To assist and support the transition efforts of the transition teams for the “major party” “candidates,” as those terms are used in the IRTPA and defined in section 9002(2) and (6) of the Internal Revenue Code of 1986 (26 U.S.C. 9002(2), (6)), and the President-elect, there is established a Presidential Transition Coordinating Council (Council).

(b) The Council shall be composed of the following officials or their designees:

(i) Chief of Staff to the President, who shall serve as Chair;

(ii) Assistant to the President and Deputy Chief of Staff for Operations, who shall serve as Vice Chair;

(iii) Assistant to the President and Deputy Chief of Staff for Policy;

(iv) Counsel to the President;

(v) Assistant to the President for Presidential Personnel;

(vi) Assistant to the President for National Security Affairs;

(vii) Assistant to the President for Homeland Security and Counterterrorism;

(viii) Assistant to the President for Economic Policy and Director, National Economic Council;

(ix) Attorney General;

(x) Director of National Intelligence;

(xi) Director of the Office of Management and Budget;

(xii) Director of the Office of Personnel Management;

(xiii) Administrator of General Services;

(xiv) Archivist of the United States;

(xv) Director of the Office of Government Ethics; and

(xvi) Such others as the President or the Chair of the Council may select.

(c) The Council shall assist the major party candidates and the President-elect by making every reasonable effort to facilitate the transition between administrations. This assistance may include, among other things, providing information relevant to facilitating the personnel aspects of a presidential transition and such other information that, in the Council's judgment, is useful and appropriate, as long as providing such information is not otherwise prohibited by law.

(d) In order to obtain a wide range of facts and information on prior transitions and best practices, the Council, its members, or their designees may, from time to time, seek information from private individuals, including individuals within outside organizations, who have significant experience or expertise in presidential transitions. The Council, its members, or their designees shall endeavor to obtain such facts and information from individuals representing a range of bipartisan or nonpartisan viewpoints. If the Council, its members, or their designees find it necessary to seek advice from private individuals or outside organizations, such counsel should be sought in a manner that seeks individual advice and does not involve collective judgment or deliberation.

(e) It shall be the policy of the Council to provide appropriate information and assistance to the major party candidates on an equal basis and without regard for party affiliation.

Sec. 2. Transition Activities and Materials. (a) At the direction of the Council or its designee(s), the Administrator of General Services shall coordinate orientation activities with the appropriate agencies, including the Office of Government Ethics and the Office of Personnel Management, for key prospective presidential appointees.

(b) At the direction of the Council or its designee(s), the White House Office of Presidential Personnel shall supplement as appropriate and necessary the electronic record of all title 5 presidentially appointed positions provided by the Office of Personnel Management to the major party candidates pursuant to section 8403(b) of IRTPA.

(c) The Suitability and Security Clearance Performance Accountability Council shall coordinate with the Council when performing those functions authorized by Executive Order 13467 of June 30, 2008, that are necessary to assist in transition-related activities.

(d) At the direction of the Council or its designee(s), executive departments and agencies shall prepare a set of briefing materials for new political appointees before the inauguration of the President-elect. The current Administration shall work with the incoming transition team to provide copies of all such materials.

(e) At the direction of the Council or its designee(s) and consistent with the Presidential Transition Act of 1963, as amended, the Administrator of General Services, in consultation with the Archivist of the United States and other appropriate agencies, shall develop a Transition Directory. This directory shall include Federal publications and other materials that provide information on each executive department and agency.

Sec. 3. Transition Agreements. To assist and support the transition, transition agreements between the White House or appropriate executive branch departments and agencies and the transition teams for the major party candidates and the President-elect will be entered into, as necessary, regarding transition procedures and identification of transition contacts.

Sec. 4. General Provisions. (a) In order to take appropriate account of the transition reforms made by IRTPA and to further update and clarify the presidential transition process, this order supersedes Executive Order 13176 of November 27, 2000.

(b) Nothing in this order shall be construed to impair or otherwise affect:

(i) authority granted by law to a department or agency, or the head thereof; or

(ii) functions of the Director of the Office of Management and Budget relating to budget, administrative, or legislative proposals.

(c) This order is intended only to facilitate the transition and is not intended to, and does not, create any right or benefit, substantive or procedural, enforceable at law or in equity, by any party against the United States, its agencies, instrumentalities, or entities, its officers, employees, or agents, or any other person.

(d) Unless extended by the President, this order shall expire on February 20, 2009.

THE WHITE HOUSE,

October 9, 2008

[FR Doc. E8-24465

Filed 10-10-08; 8:45 am]

Billing code 3195-W9-P